DEPARTMENT OF AGRICULTURE

Rural Business-Cooperative Service

National Stakeholder Forum—Biorefinery, Renewable Chemical, and Biobased Product Manufacturing Assistance Program

AGENCY: Rural Business-Cooperative Service, USDA.

ACTION: Notice of a public meeting.

SUMMARY: The Rural Business-Cooperative Service (RBS), an Agency within USDA Rural Development, is holding a forum to introduce the new “Biorefinery, Renewable Chemical, and Biobased Product Manufacturing Assistance Program” (Section 9003 Program), formerly the Biorefinery Assistance Program (BAP), as found in the new regulation and the Notice of Solicitation of Applications (NOSA). Major changes to the Section 9003 Program include the addition of renewable chemicals and biobased product manufacturing to the program area and a two-phase application process to streamline the application process and limit the expense to applicants.

Speakers from the Agency will discuss the changes to the 9003 Program in order to educate applicants on changes to program eligibility and the new application process. The National Stakeholder Forum can be attended via webinar or in person.

DATES:

National Stakeholder Forum: The National Stakeholder Forum will be held on Thursday, July 16, 2015, from 12:30 p.m. to 2:30 p.m. Eastern Daylight Time.

Registration: It is requested that you register by 12 p.m. Eastern Daylight Time July 14, 2015, to attend the forum in person. See the Instructions for Attending the Meeting section of this notice for additional information. If you wish to participate via webinar, you must register for the webinar at http://www.webcaster4.com/Webcast/Page/789/9401 prior to or during the webinar.

ADDRESSES: The National Stakeholder Forum will take place in Room 107-A of the Whitten Building on 1400 Jefferson Drive SW., located between 12th and 14th streets SW., in Washington DC 20250.

FOR FURTHER INFORMATION CONTACT: Todd Hubbell, Rural Business-Cooperative Service, Room 6865, 1400 Independence Avenue SW., Washington, DC 20250, Telephone: (202) 690-2516. Email: Todd.Hubbell@wdc.usda.gov. Persons with disabilities who require alternative means for communication of program information (Braille, large print, audiotape, etc.) should contact USDA's TARGET Center at (202) 720-2600 (voice and TDD).

SUPPLEMENTARY INFORMATION: Section 9003 of the 2008 Farm Bill authorized the Agency to provide loan guarantees for the construction of advanced biofuel biorefineries under the Biorefinery Assistance Program (often referred to as the Section 9003 Program). The 2014 Farm Bill modified the provisions associated with the Section 9003 Program. In response to the 2014 Farm Bill, the Agency published a new interim rule for the program, now entitled the Biorefinery, Renewable Chemical, and Biobased Product Manufacturing Assistance Program. This interim final rule was published in the Federal Register on June 24, 2015 (https://www.federalregister.gov/articles/2015/06/24/2015-14989/biorefinery-renewable-chemical-and-biobased-product-manufacturing-assistance-program).

In order to familiarize the public with the new Section 9003 Program rule, representatives from the U.S. Department of Agriculture (USDA) are conducting this National Stakeholder Forum. Discussion points will include the expansion of the program to include renewable chemicals and biobased product manufacturing and the new two-phase application process. Participants will be afforded the opportunity to ask questions on the material in the presentation through the webinar software or in person.

Date: July 16, 2015.

Time: 12:30 p.m.-2:30 p.m., Eastern Daylight Time.

Location information: USDA Whitten Building, 1400 Jefferson Drive SW., Room 107-A, Washington, DC 20250.

Instructions for Attending the Meeting

Space for attendance at the meeting is limited. Due to USDA headquarters security and space requirements, all persons wishing to attend the forum in person must send an email to energydivision@wdc.usda.gov by 12 p.m. Eastern Daylight Time July 14, 2015, to register the names of those planning to attend. Registrations will be accepted until maximum room capacity is reached. Seating will be available on a first come, first serve basis.

To register, provide the following information:

• First and Last Names

• Organization

• Title

• Email

• City, State

Upon arrival at the USDA Whitten Building, registered persons must provide valid photo identification in order to enter the building; visitors need to enter the Whitten Building on the mall side. Please allow extra time to get through security.

USDA Non-Discrimination Statement

The U.S. Department of Agriculture (USDA) prohibits discrimination in all its programs and activities on the basis of race, color, national origin, age, disability, and where applicable, sex, marital status, familial status, parental status, religion, sexual orientation, genetic information, political beliefs, reprisal, or because of all or part of an individual's income is derived from any public assistance program. (Not all prohibited bases apply to all programs.)

If you wish to file a Civil Rights program complaint of discrimination, complete the USDA Program Discrimination Complaint Form, found online at http://www.ascr.usda.gov/complaint_filing_cust.html, or at any USDA office, or call (866) 632-9992 to request the form. You may also write a letter containing all of the information requested in the form. Send your completed complaint form or letter to us by mail at U.S. Department of Agriculture, Director, Office of Adjudication, 1400 Independence Avenue SW., Washington, DC 20250-9410, by fax (202) 690-7442 or email at program.intake@usda.gov.

Individuals who are deaf, hard of hearing, or have speech disabilities and you wish to file a program complaint please contact USDA through the Federal Relay Service at (800) 877-8339 or (800) 845-6136 (in Spanish).

Persons with disabilities who wish to file a program complaint, please see information above on how to contact us by mail directly or by email. If you require alternative means of communication for program information (e.g., Braille, large print, audiotape, etc.) please contact USDA's TARGET Center at (202) 720-2600 (voice and TDD).

Dated: July 2, 2015.
Samuel Rikkers,
Acting Administrator, Rural Business-Cooperative Service.

[FR Doc. 2015-16757 Filed 7-9-15; 8:45 am]

BILLING CODE 3410-XX-P